DEPARTMENT OF HEALTH AND HUMAN SERVICES

Centers for Medicare & Medicaid Services

[CMS 3452-PN]

Medicare Program; Application by the Utilization Review Accreditation Commission (URAC) for Continued CMS Approval of Its Home Infusion Therapy (HIT) Accreditation Program

Correction

In Notice document, 2023-24850, appearing on pages 77321 through 77323, in the issue of Thursday, November 9, 2023, make the following correction:

On page 77321, in the second column, in the DATES section, the date “December 11, 2023” should read “December 8, 2023”.

[FR Doc. C1-2023-24850 Filed 12-4-23; 8:45 am]

BILLING CODE 0099-10-P